DEPARTMENT OF COMMERCE

International Trade Administration

[A-570-008]

Calcium Hypochlorite From the People's Republic of China: Postponement of Preliminary Determination of Antidumping Duty Investigation

AGENCY: Enforcement and Compliance, International Trade Administration, Department of Commerce.

DATES: May 5, 2014.

FOR FURTHER INFORMATION CONTACT: Alexis Polovina or Kabir Archuletta, AD/CVD Operations, Office V, Enforcement and Compliance, International Trade Administration, U.S. Department of Commerce, 14th Street and Constitution Avenue NW., Washington, DC 20230; telephone: (202) 482-3927, or (202) 482-2593, respectively.

SUPPLEMENTARY INFORMATION:

Postponement of Preliminary Determination

On January 14, 2014, the Department of Commerce (“Department”) published a notice initiating an antidumping duty investigation of calcium hypochlorite from the People's Republic of China.¹ The notice of initiation inadvertently stated that the Department, in accordance with section 733(b)(1)(A) of the Tariff Act of 1930, as amended (“the Act”) and 19 CFR 351.205(b)(1), unless postponed, will issue its preliminary determination no later than 140 days after the publication date of this initiation, instead of the date of initiation. Section 733(b)(1)(A) of the Act and 19 CFR 351.205(b)(1) states that the Department will make a preliminary determination no later than 140 days after the date of the initiation (i.e., January 7, 2014), not 140 days after the publication date of the initiation. Accordingly, the preliminary determination of this antidumping duty investigation is currently due no later than May 27, 2014.

¹ See Calcium Hypochlorite from the People's Republic of China: Initiation of Antidumping Duty Investigation, 79 FR 2410 (January 14, 2014).

Pursuant to section 733(c)(1)(B) of the Act and 19 CFR 351.205(b)(2), the Department concludes that the parties involved in this investigation are cooperating and determines that this case is extraordinarily complicated by reason of the number and complexity of the transactions to be investigated and adjustments to be considered and the number of firms whose activities must be investigated. The Department determines that a 50-day postponement of the preliminary determination is needed in order to provide the Department with sufficient time to review and analyze questionnaire responses and issue appropriate requests for clarification and additional information.

For the reasons stated above, the Department, in accordance with section 733(c)(1)(B) of the Act, is postponing the deadline for the preliminary determination to no later than 190 days after the date on which the Department initiated this investigation. Therefore, the new deadline for the preliminary determination is July 16, 2014. In accordance with section 735(a)(1) of the Act, the deadline for the final determination of this investigation will continue to be 75 days after the date of the preliminary determination, unless postponed at a later date.

This notice is issued and published pursuant to section 733(c)(2) of the Act and 19 CFR 351.205(f)(1).

Dated: April 28, 2014.
Paul Piquado,
Assistant Secretary for Enforcement and Compliance.

[FR Doc. 2014-10252 Filed 5-2-14; 8:45 am]

BILLING CODE 3510-DS-P